DEPARTMENT OF HEALTH AND HUMAN SERVICES

National Institutes of Health

National Cancer Institute; Amended Notice of Meeting

Notice is hereby given of a change in the meeting of the National Cancer Advisory Board and NCI Board of Scientific Advisors, November 29, 2023, 05:30 p.m. to November 30, 2023, 05:30 p.m., National Cancer Institute—Shady Grove, 9609 Medical Center Drive, Room TE406 & 408, Rockville, MD, 20850 which was published in the Federal Register on September 29, 2023, FR Doc 2023-21441, 88 FR 67328.

This meeting notice is being amended to change the meeting format from hybrid (in-person & virtual) to virtual only. In addition, the National Cancer Advisory Board (NCAB) Subcommittee Meeting on November 29, 2023, will now be held from 1:00 p.m. to 2:00 p.m. instead of 5:30 p.m. to 9:00 p.m. The closed session of the NCAB on November 30, 2023, will now be held from 12:00 p.m. to 1:05 p.m. instead of 4:30 p.m. to 5:30 p.m. The open session of the NCAB and NCI Board of Scientific Advisors (BSA) on November 30, 2023, will now be held from 1:15 p.m. to 5:00 p.m. instead of 8:00 a.m. to 4:15 p.m. The NCAB Subcommittee meeting and open session of the NCAB and BSA can be accessed from the NIH VideoCasting at the following link: https://videocast.nih.gov/. The meeting is partially closed to the public.

Dated: November 15, 2023.
Melanie J. Pantoja,
Program Analyst, Office of Federal Advisory Committee Policy.

[FR Doc. 2023-25677 Filed 11-20-23; 8:45 am]

BILLING CODE 4140-01-P